ENVIRONMENTAL PROTECTION AGENCY

[FRL-8326-7]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that a meeting via conference call of the Children's Health Protection Advisory Committee (CHPAC) will be held June 29th, 2007 at 3 p.m. EDT. The CHPAC was created to advise the Environmental Protection Agency on science, regulations, and other issues relating to children's environmental health.

DATES: Conference call will take place on June 29th, 2007 at 3 p.m. EDT.

FOR FURTHER INFORMATION CONTACT: Carolyn Hubbard, Office of Children's Health Protection and Environmental Education, USEPA, MC 1107A, 1200 Pennsylvania Avenue, NW., Washington, DC 20460, (202) 564-2189, hubbard.carolyn@epa.gov.

SUPPLEMENTARY INFORMATION: The meetings of the CHPAC are open to the public. EPA's Office of Research and Development and OCHPEE are supporting a joint Board of Scientific Counselors (BOSC) and Children's Health Protection Advisory Committee (CHPAC) work group to review the EPA/NIEHS Research Centers for Children's Environmental Health and Disease Prevention.

The Children's Environmental Health Research Centers (CEHRC) Work Group is gathering information and will develop a report.

During the conference call, the CHPAC will review that information to inform writing a letter for the full CHPAC to discuss and take action on at the July meeting.

Draft Call agenda:

3-3:15—Overview of CEHRC Work Group activities

3:15-3:30—Question/Answer (Full CHPAC)

3:30-3:50—Possible ideas for a recommendation letter

3:50-4—Wrap up and next steps

Call time: Friday June 29, 3-4 p.m. EDT.

Call-in number: 1-866-299-3188.

Conference call code: 202 564 2189.

Access and Accommodations: For information on access or services for individuals with disabilities, please contact Carolyn Hubbard at 202-564-2189 or hubbard.carolyn@epa.gov. To request accommodation of a disability, please contact Carolyn Hubbard preferably at least 10 days prior to the meeting, to give EPA as much time as possible to process your request.

Dated: June 7, 2007.
Carolyn Hubbard,
Designated Federal Official.

[FR Doc. E7-11298 Filed 6-11-07; 8:45 am]

BILLING CODE 6560-50-P